DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: SABIT Program: Applications and Questionnaires.

OMB Control Number: 0625-0225.

Form Number(s): ITA-4143P.

Type of Request: Regular submission (extension of a current information collection).

Number of Respondents: 2,000.

Average Hours per Response: 3 hours for application; 2 hours for program exit questionnaire; 1 hour for alumni success story form.

Burden Hours: 4,400.

Needs and Uses: The information collected by the Special American Business Internship Training (SABIT) application for participation in the SABIT Group Program will be used by ITA staff to determine the quality of applicants for SABIT's programs and create delegations of professionals from Eurasia and other regions. The program exit questionnaire will be used to improve the program by determining what worked and what did not work well. The alumni success form will be used to track SABIT alumni to determine how well the program is meeting its foreign policy objectives.

Affected Public: International individuals or households; International businesses or other for-profit organizations.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 22, 2014.
Gwellnar Banks,
Management Analyst, Office of the Chief Information Officer.

[FR Doc. 2014-20439 Filed 8-27-14; 8:45 am]

BILLING CODE 3510-HE-P